DEPARTMENT OF ENERGY

Biomass Research and Development Technical Advisory Committee

AGENCY: Department of Energy, Office of Energy Efficiency and Renewable Energy.

ACTION: Notice of open meeting.

SUMMARY: This notice announces an open meeting of the Biomass Research and Development Technical Advisory Committee under Section 9008(d) of the Food, Conservation, and Energy Act of 2008. The Federal Advisory Committee Act (Pub. L. 92-463, 86 Stat. 770) requires that agencies publish these notices in the Federal Register to allow for public participation. This notice announces the meeting of the Biomass Research and Development Technical Advisory Committee.

Dates and Times: December 1, 2009 at 8 a.m. to 5:30 p.m.; December 2, 2009 at 8 a.m. to 3 p.m.

ADDRESSES: Hyatt Regency Washington on Capitol Hill, 400 New Jersey Avenue, NW., Washington, DC 20001.

FOR FURTHER INFORMATION CONTACT: Laura McCann (formerly Neal), Designated Federal Official for the Committee, Office of Energy Efficiency and Renewable Energy, U.S. Department of Energy, 1000 Independence Avenue, SW., Washington, DC 20585; (202) 586-7766; E-mail: laura.neal@ee.doe.gov or T.J. Heibel at (410) 997-7778 ext. 223; E-mail: theibel@bcs-hq.com.

SUPPLEMENTARY INFORMATION:

Purpose of the Meeting: To provide advice and guidance that promotes research and development leading to the production of biobased fuels and biobased products.

Tentative Agenda:

• Update on USDA Biomass R&D Activities.

• Update on DOE Biomass R&D Activities.

• Presentation from the Biomass R&D Board.

• Panel Discussion on the “Valley of Death.”

• Presentation from the Joint BioEnergy Institute (JBEI).

• Subcommittee Report-Outs discussing Committee's 2009 recommendations.

• Committee Discussion on 2010 Work Plan.

Public Participation: In keeping with procedures, members of the public are welcome to observe the business of the Biomass Research and Development Technical Advisory Committee. To attend the meeting and/or to make oral statements regarding any of the items on the agenda, you should contact Laura McCann (formerly Neal) at 202-586-7766; E-mail: laura.neal@ee.doe.gov or T.J. Heibel at (410) 997-7778 ext. 223; E-mail: theibel@bcs-hq.com. You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at http://www.brdisolutions.com/publications/default.aspx#meetings.

Issued at Washington, DC on October 29, 2009.
Rachel Samuel,
Deputy Committee Management Officer.

[FR Doc. E9-26691 Filed 11-4-09; 8:45 am]

BILLING CODE 6450-01-P